DEPARTMENT OF TRANSPORTATION

Federal Highway Administration

[FHWA Docket No. FHWA-98-4370]

Transportation Equity Act for the 21st Century; Implementation of the Transportation and Community and System Preservation Pilot Program

AGENCY: Federal Highway Administration (FHWA), DOT.

ACTION: Notice; request for applications for Fiscal Year (FY) 2002 Transportation and Community and System Preservation (TCSP) grants; request for FY 2002 TCSP research recommendations; request for comments on program implementation and research needs.

SUMMARY: This document provides guidance on section 1221 of the Transportation Equity Act for the 21st Century (TEA-21), which established the Transportation and Community and System Preservation Pilot (TCSP) Program. The TCSP provides funding for grants and research to investigate and address the relationship between transportation and community and system preservation. The States, local governments, metropolitan planning organizations (MPOs), tribal governments, and other local and regional public agencies are eligible for discretionary grants to plan and implement transportation strategies which improve the efficiency of the transportation system, reduce environmental impacts of transportation, reduce the need for costly future public infrastructure investments, ensure efficient access to jobs, services and centers of trade, and examine development patterns and identify strategies to encourage private sector development patterns which achieve these goals. FY 2002 is the fourth year of the TCSP program.

The FHWA seeks requests for FY 2002 TCSP grants, recommendations for FY 2002 TCSP research, and public comments from all interested parties regarding implementation of the TCSP program and research related to the program in FY 2002 and beyond.

DATES: Applications for FY 2002 grants and recommendations for research should be received in the appropriate FHWA Division Office by close of business Wednesday, January 31, 2001. Comments on program implementation, research needs, and priorities should be received by the DOT Docket Clerk on or before the close of business Wednesday, January 31, 2001.

ADDRESSES: Grant applications should be submitted to the FHWA Division Office in the applicant's State. Division addresses and telephone numbers are provided in Attachment III of this notice.

Mail or hand deliver comments on program implementation to the docket number that appears in the heading of this document, U.S. Department of Transportation, Dockets Management Facility, Room PL-401, 400 Seventh Street, SW., Washington, D.C. 20590, or submit electronically at http://dmses.dot.gov/submit. All comments received will be available for examination and copying at the above address from 9 a.m. to 5 p.m., e.t., Monday through Friday, except Federal holidays. Those persons desiring notification of receipt of comments must include a self-addressed, stamped postcard or print the acknowledgment page after submitting comments electronically.

FOR FURTHER INFORMATION CONTACT: Ms. Felicia Young, Office of Human Environment, (HEPH), (202) 366-0106; or Mr. S. Reid Alsop, Office of the Chief Counsel, (HCC-30), (202) 366-1371, Federal Highway Administration, 400 Seventh Street SW., Washington, D.C. 20590-0001. Office hours are from 8 a.m. to 5 p.m., e.t., Monday through Friday, except Federal holidays.

SUPPLEMENTARY INFORMATION:

Electronic Access and Filing

This document and other program related information are available on the TCSP web site: http://tcsp-fhwa.volpe.dot.gov.

You may submit or retrieve comments online through the Document Management System (DMS) at: http://dmses.dot.gov/submit. Acceptable formats include: MS Word (versions 95 to 97), MS Word for Mac (versions 6 to 8), Rich Text File (RTF), American Standard Code Information Interchange (ASCII)(TXT), Portable Document Format (PDF), and WordPerfect (versions 7 to 8). The DMS is available 24 hours each day, 365 days each year. Electronic submission and retrieval help and guidelines are available under the help section of the web site.

An electronic copy of this document also may be downloaded by using a computer, modem and suitable communications software from the Government Printing Office's Electronic Bulletin Board Service at (202) 512-1661. Internet users may reach the Office of the Federal Register's home page at: http://www.nara.gov/fedreg and the Government Printing Office's web page at: http://www.access.gpo.gov/nara.

Background

Section 1221 of the TEA-21 (Public Law 105-178, 112 Stat. 107 (1998)) established the TCSP. The Department of Transportation's Strategic Plan (1997-2003) includes a series of goals related to safety, mobility and access, economic growth and trade, enhancement of communities and the natural environment, and national security. The TCSP pilot program furthers each of these goals by providing funds for grants and research to investigate and address the relationship between transportation and community and system preservation. By funding innovative activities at the neighborhood, local, metropolitan, regional, and State levels, the program is intended to increase the knowledge of the costs and benefits of different approaches to integrating transportation investments, community preservation, land development patterns, and environmental protection. It will enable communities to investigate and address important relationships among these many factors.

The TCSP program offers States, local governments, MPOs, tribal governments, and other public agencies the opportunity to develop, implement and evaluate current preservation practices and activities that support these practices, as well as to develop new and innovative approaches to meet the purposes of the TCSP grant program (see Section II).

The USDOT established the TCSP in cooperation with other Federal agencies, State, regional, and local governments. The FHWA is administering the program and has established an interagency team to assist with program implementation. Representatives include the Department's Federal Transit Administration (FTA), the Federal Railroad Administration (FRA), the Research and Special Programs Administration/Volpe Center (RSPA), and the Office of the Secretary of Transportation (OST), and the Environmental Protection Agency (EPA).

This notice includes three sections: Section I: TCSP Program Information; Section II: Requests for FY 2002 TCSP Grants; and Section III: Recommendations for FY 2002 TCSP Research.

Section I: TCSP Program Information

Introduction

The TCSP provides funding for grants and research to investigate and address the relationship between transportation and community and system preservation. States, local governments, tribal governments, and MPOs are eligible for discretionary grants to plan and implement strategies which improve the efficiency of the transportation system, reduce environmental impacts of transportation, reduce the need for costly future public infrastructure investments, ensure efficient access to jobs, services and centers of trade, and examine development patterns and identify strategies to encourage private sector development patterns which achieve these goals. Through the TCSP, States, local governments, and MPOs implement and evaluate current preservation practices and activities that support these practices, as well as develop new and innovative approaches. FY 2002 is the fourth year of the TCSP program.

The TCSP supports the Administration's high priority goals to encourage the development of livable communities.

Purposes

Section 1221 of the TEA-21 identifies five purposes for TCSP projects. The purposes are broad and include transportation efficiency, the environment, access to jobs, services, and trade centers, efficient use of the existing infrastructure, and land use patterns. A key element of the TCSP is exploring the link between transportation and land use patterns. The FHWA is looking for innovative approaches to test and evaluate the effectiveness of integrating land use planning and transportation planning to meet the purposes of TCSP.

Innovation

Funding in the TCSP is intended to plan, implement, and test new approaches for meeting the TCSP program goals. As a pilot program, the TCSP provides the opportunity to support and encourage non-traditional approaches, including non-traditional partnerships, and for communities to exchange experiences on new transportation and community preservation strategies.

Evaluation and Results

Project evaluation is a key component of the TCSP to help agencies and organizations demonstrate how new transportation related strategies can be most effectively implemented.

Applicants are required to include a project evaluation plan as part of their TCSP application. The evaluation plan should describe roles, responsibilities, project objectives, performance measures, evaluation methodologies, data sources, schedule milestones, and budgets. Clearly, stating the project's objectives and activities and anticipated results are important for successful proposals. It is also important to demonstrate how results will be measured, and how evaluation information will be made available to a national audience (e.g., through reports, web-sites, new models, etc.).

Partnerships

The TCSP encourages public and private participation in proposed projects. In addition, the TCSP encourages applicants to include non-traditional partners on the project team. The project team should also reflect the project type and scope. The roles and functions of the partners should also be explained.

FY 2001 TCSP Program

In response to the November 19, 1999, Federal Register notice (64 FR 63364-63371) requesting applications for TCSP funding, the FHWA received 298 applications from 48 States, Puerto Rico, and the District of Columbia for $197.2 million. These applications are being reviewed and the FHWA plans to award the FY 2001 funds to successful applicants after October 1, 2000.

Funding for the TCSP was authorized at $20 million for FY 1999 and $25 million each year for FYs 2000 through 2003 by the TEA-21. However, demand for the TCSP funds has exceeded the funds available. The FHWA has been able to provide funding to only 11.2 percent of the TCSP applicants. When combined with congressional earmarking, the funds available for competitive TCSP grants have been further reduced.

Summary of Comments to the Docket

The November 19, 1999, Federal Register notice (64 FR 63364) requested comments on the TCSP program implementation in FY 2001 and beyond. No comments were submitted to the docket (FHWA-98-4370) under this request. The complete docket may be viewed at the locations identified under the captions ADDRESSES and Electronic Access in the preamble.

Section II: Request for FY 2002 TCSP Grants

Introduction

The grants funded under the TCSP program will develop, implement, and evaluate transportation strategies supporting transportation and community and system preservation practices which incorporate beneficial short-and long-term environmental, economic, and social equity effects to help build livable communities.

Application Process

Applicants must follow the format identified under Attachment I to this notice. The FHWA and a multi-agency technical review panel will review the applications before making recommendations to the Federal Highway Administrator and the USDOT Secretary for final approval.

Funds Availability

Because of the high demand for the limited TCSP funds, applicants are strongly recommended to request TCSP support for the smaller innovative phases of larger projects that could be funded from other sources. In addition, leveraging other Federal, State, local, and private funds will further demonstrate local commitment to the project. Phased projects should stand alone and be capable of being implemented and producing results in each phase.

TCSP grant funds are not available up front in a lump sum. Like other Federal-aid programs, TCSP funding is reimbursable to the grant recipient after initial expenditures are made.

Eligible Recipients

State agencies, MPOs, tribal governments, and units of local governments recognized by a State are eligible recipients of TCSP grant funds. This includes towns, cities, public transit agencies, air resources boards, school boards, and park districts. While non-governmental organizations are not eligible to receive TCSP funds under section 1221 of the TEA-21, they are encouraged to form partnerships with an eligible recipient as the project sponsor.

A State or MPO may be both a project sponsor and endorse other activities proposed and submitted by a local government within its boundary.

Grant Program Purposes

Activities funded under the TCSP should address and integrate each of the program purposes listed below. Priority will be given to those proposals which most clearly and comprehensively meet and integrate the TCSP purposes and are most likely to produce successful results. How well proposed projects address each purpose is a principal criterion in recommending proposals for funding. Applicants should develop proposals that specifically address these purposes, as follows:

1. Improve the Efficiency of the Transportation System

• Identify, develop, and evaluate new strategies and measures of transportation efficiency that are based on maximizing the use of existing community infrastructure, such as, highways, railroads, transit systems and the built environment.

• Address the transportation system as a whole rather than focusing on one mode of transportation. This may include, for example, improving the integration of various modes of travel, such as, highway, transit, pedestrian, bicycling, and rail or improving the efficiency of port, rail, and highway connections for freight and jobs.

• Performance measures should include a focus on movement of people and goods and access rather than movement of automobiles, and on services provided rather than vehicle miles traveled.

2. Reduce the Impacts of Transportation on the Environment

• Explore the long-term direct and indirect social, economic, and environmental impacts of transportation investments on the natural and built environment. The environmental factors discussion should include air quality, as well as ecosystems, habitat fragmentation, water quality, and community and cultural issues, such as, disadvantaged populations and environmental justice, as appropriate.

• Performance measures should relate the results of TCSP activities to the larger community, regional environment, and the transportation system.

3. Reduce the Need for Costly Future Public Infrastructure

• Describe how the project will reduce the need for costly future public infrastructure investment or create tools and techniques to measure these savings over the life cycle of the activities.

• Performance measures should include projected life cycle savings obtained through avoiding future investments or maintenance.

4. Ensure Efficient Access to Jobs, Services and Centers of Trade

• Clearly demonstrate how the project will improve efficient, affordable access to jobs, services, and centers of trade and address benefits for disadvantaged populations. This could also include the use of new technologies that increase access for people and businesses while reducing the need to travel.

• Performance measures should include improved access to jobs and services, and improved freight movements.

5. Encourage Private Sector Development Patterns

• Identify and test effective strategies to encourage private sector investments that result in land development patterns that help meet the goals of this pilot program and that avoid or mitigate negative equity impacts on neighborhoods and businesses, effectively linking land use and transportation is a key feature of TCSP.

• Performance measures should demonstrate and permit monitoring of changes in development patterns and private sector investment trends, or opportunities resulting from TCSP-related activities.

Grant Priorities

In addition to meeting the purposes of the TCSP as discussed above, grant applications are evaluated on the following factors:

1. Demonstrated Commitment of Non-Federal Resources

Although matching funds are not required, priority is given to projects that leverage non-Federal funds and take advantage of in-kind contributions, such as, maintenance agreements, land donations, and volunteer time. Local funds and resources contributed for a project demonstrates commitment to a project and indicates the likelihood that it will be fully implemented.

Matching funds and resources should be directly related to the proposed project and its activities. The local match also should be available for use at the time the project activities occur.

In addition to non-Federal funds, applicants are encouraged to pursue other Federal resources to support Livability Initiatives, such as, Transportation Enhancement, Congestion Management and Air Quality funds, as well as related programs sponsored by other Federal agencies and departments. A description of the President's Livability Initiative can be found on the White House web site: http://www.livablecommunities.gov/.

2. Project Evaluation Plan

The plan to evaluate the project's objectives and outcomes is a required, key element of the grant proposal. The evaluation plan should describe and evaluate goals, expected outcomes, measures, evaluation methodologies, major evaluation milestones and deliverables for the project. See the discussion on Evaluation below.

3. Equitable Distribution of Grants to Diverse Populations

The FHWA will ensure the equitable geographic and demographic distribution of funds. Applicants should identify and describe who will be served by the project.

4. Demonstrated Commitment to Public and Private Involvement, Including the Participation of Non-Traditional Partners in the Project Team

Project partners could include public utility operators, social services agencies, community groups, environmental organizations, non-profit organizations, public health agencies, private land development organizations, and real estate investors. The non-traditional partners should be active players on the project team who help develop the project's assumptions and scenarios. Applicants will describe the roles and commitments of all their partners in the application.

Applicant Category

The TCSP was intended to support localities that have already begun preservation practices and to encourage those areas just starting these practices. The legislation refers to the types of grants being requested as planning grants and implementation grants, as follows:

(a) Planning grants—test or implement new, innovative planning methods, programs and outreach strategies that facilitate the development and/or dissemination of information that meets the purposes of the TCSP.

(b) Implementation grants—will result in the rehabilitation and/or development of a transportation or transportation-related facility that meets the purposes of the TCSP program.

Eligible Activities

Projects eligible for Federal highway and transit funding (title 23, U.S.C., or chapter 53 of title 49, U.S.C.) or other activities determined by the Secretary to be appropriate are also eligible for TCSP funding. This allows a broad range of transportation activities to be funded. Grants will be awarded for new and innovative transportation activities meeting the purposes of the TCSP program, but remain unfunded under the current Federal-aid program.

The grant request may include funding for travel for one representative to attend two national workshops to present the project plans, status, and results.

Strategic Priorities

The TCSP's goal is to develop a broad range of strategies for urban, suburban, and rural communities that help promote livable communities through transportation investments and operations. The TCSP legislative language is general and provides States, MPOs, tribal governments, and local agencies the flexibility to create innovative approaches to address TCSP goals. Grants will be awarded for activities that meet the purposes of the program described above and are innovative and replicable.

The FHWA is using individual project evaluations conducted by grantees, the results of research, and overall program evaluation to determine the strategic priorities for the TCSP. Rather than setting specific strategic priorities, the FHWA is providing information about previously funded projects with suggestions to prospective applicants of the FHWA's interest areas. Applicants should:

1. Highlight innovative and unique aspects of their proposals, and how the results of their proposal will further the purposes of the TCSP;

2. Not duplicate previously funded activities (see the TCSP web site http://tcsp-fhwa.volpe.dot.gov/proapps.html for information about past grant recipients) unless there is a significant change in the scope, application, or results of the strategy;

3. Highlight the results and broad impacts on communities of current preservation practices including urban growth boundaries, infill development, and land use changes. Identify how these were measured; and

4. Consider projects that:

• Integrate community health, safety and social equity goals with transportation to promote livable communities;

• Plan or implement regional and local strategies to mitigate greenhouse gas emissions;

• Use technology and communications that provide people and businesses with improved access to goods and services to promote livable communities; and

• Enhance intermodal and freight access to promote economic growth and access to jobs in communities.

Projects should be ready to begin at the beginning of the Federal fiscal year for which funds are requested. Plans and documented results should be available to be shared with others at the completion of each phase of the project. Applications should identify when the project will be started and when results are expected.

Evaluation

Each application is required to have an evaluation plan that monitors, evaluates, and analyzes the project in three areas: process, product, and outcome. The project sponsor will provide the results of the analysis to the FHWA. This information is necessary to provide an opportunity for others to learn more about the practical implications of integrating land use, transportation, and environmental decisionmaking.

The project evaluation should be based on the project's goals and objectives. The project's current and future performance should be measured and evaluated through: (a) Quantitative assessments, such as the measurement of changes in traffic flow and mode choice (e.g., increased pedestrian and bicycle traffic), environmental impacts, and reduced number of trips; (b) analytic procedures which forecast the current and future impacts of projects, such as, travel demand, land development, or economic forecasting; and/or (c) qualitative assessments, such as, interviews, surveys, changes in local ordinances, or other anecdotal evidence.

Developing measures to determine the results of the projects is difficult and there is no general consensus on operative measures. A TCSP program evaluation resource guide, references, and case studies are available on the TCSP web site http://tcsp-fhwa.volpe.dot.gov/programs.html or from the FHWA Division in your State.

Relationship of the TCSP to the Transportation Planning Process

The TCSP intends to complement, strengthen, and enhance the Statewide and MPO planning process mandated by the TEA-21. This process promotes the ongoing, cooperative, and active involvement of the public, transportation providers, public interest groups, and State, metropolitan, and local government agencies in the development of statewide and metropolitan transportation plans and improvement programs (23 CFR part 450).

The TCSP funds are intended to leverage new transportation and community preservation initiatives rather than to fund the ongoing planning activities of States and MPOs. Applicants:

• Must clearly demonstrate their coordination with State and local planning agencies and the project's consistency with appropriate statewide and metropolitan transportation planning processes.

• May test or implement new, innovative planning methods and programs that significantly enhance the existing statewide and MPO transportation planning processes.

• Must coordinate with the appropriate State DOT or MPO to ensure the project is consistent with and doesn't circumvent the planning processes.

• Should encourage and improve public involvement in the overall planning process, as well as for the individual project.

• May not request funds for projects that have already been scheduled for funding and are in the current State or MPO TIP.

Construction projects funded by the TCSP will ultimately be included in an approved State or MPO Transportation Improvement Program (TIP). If proposed highway and transit projects using Federal funds or requiring Federal approvals are in air quality non-attainment or maintenance areas, they should be included in any air quality conformity analysis required as part of the transportation planning process. Because TCSP projects may target improved air quality as part of their broader goals, it is important to document a project's beneficial air quality impacts.

Non-construction activities, such as, regional plan and policy developments, project evaluations, and land development code changes, may not need to appear in a statewide or MPO TIP, but should still have the support or endorsement of the State or MPO. Planning activities should be reflected in the metropolitan area's Unified Planning Work Program. Non-construction activities may result in changes to existing State and MPO plans and, therefore, should be coordinated with other jurisdictions within a metropolitan region or State.

FHWA Division Role

The FHWA Division Office is the first line of contact for the TCSP program. The staff person assigned responsibility for the TCSP will work with applicants and successful grant recipients to ensure that all Federal requirements above those of the TCSP have been met. This person can also help develop project agreements, obtain reimbursements, and can assist in preparing environmental and other paperwork clearances.

Questions about the grant program should be directed to the FHWA's Division Office in the State in which the project is located (Attachment III).

Schedule and Administrative Processes

The FHWA has an established financial management process with the State Departments of Transportation to administer Federal-aid projects. However, if a grant recipient prefers another process, i.e., a cooperative agreement or grant through another eligible agency (e.g., a public transit agency) the FHWA Division will work with the grantee to develop a different funding mechanism.

By close of business Wednesday, January 31, 2001, applicants must submit four (4) printed and stapled copies of the application and a 3.5-inch disk with the application file to the appropriate FHWA Division office. The announcement of FY 2002 grant recipients will not be made until after the beginning of the FY 2002 fiscal year (October 1, 2001).

TCSP FY 2002 Time Line
TCSP milestones | FY 2002
Grant applications due to the FHWA Division Offices | January 31, 2001.
Research project recommendations due to the FHWA | January 31, 2001
Grant projects awarded | After October 1, 2001.

Section III: Recommendations for FY 2001 TCSP Research

Introduction

The TCSP includes a comprehensive research program to investigate the relationships between transportation, community preservation, and the environment, and to investigate the role of the private sector in shaping such relationships. The research program also includes monitoring, evaluation, and analysis of projects carried out under the grant program.

Program Evaluation and Outreach

Under the research component of TCSP, the FHWA will establish outreach, technical assistance, and other means to share and implement the results elsewhere. Current outreach plans include Federal Register notices, grant workshops, the FHWA web site, and publication of TCSP related articles.

Research Program

Because most of the TCSP funds are being allocated for grants, limited funding will be available to undertake research. The FHWA is soliciting comments on the research needs to support the FY 2002 TCSP.

The goal for TCSP research program is to build a knowledge base to enable State, regional and local government agencies, the private sector, and communities, to develop tools and methodologies to support livable communities. With coordination and input from its partners and stakeholders, the FHWA will identify and initiate needed research to support the purposes of the TCSP. The research program is integral to the TCSP and will support and complement the activities conducted through TCSP planning and implementation grants.

The FHWA requests research recommendations that are consistent with the TCSP strategic priorities to:

1. Evaluate results of current community preservation practices. Information is needed on the specific outcomes of current statewide, regional, and local community preservation practices, such as, green corridors, smart growth, urban growth boundaries, higher density development, and land use controls to improve transportation efficiency. The research statement should include both costs and benefits of these initiatives and performance measures.

2. Develop needed tools and methodologies to support decision makers. Transportation-related tools and analytical techniques will be enhanced to help support the State and local decision makers in taking a longer term view and balancing economic, social equity, and environmental goals.

Attachment I: FY 2002 TCSP Grant Application Format

Project Submission and Formatting Requirements

1. The application may be no more than 15 pages in length following the format described below.

2. Do not submit additional supporting materials. Each application must stand on its own without the assistance of supplemental materials. Exception: site maps, plans, and photographs are encouraged, but should be reproducible in black and white.

3. Do not submit letters of support. Do include references to State and local support in the application (Part F. Partners).

4. General Information:

—Page Size: 8½″ × 11″ (including maps), portrait orientation.

—Typeface: 11 point.

—Printing: single sided only.

—Binding: Do staple only the top left corner of each copy. No other method of binding other than a simple staple should be used.

—Labeling: On each page provide the project title and page number.

5. File format for electronic submission:

—File Format: WordPerfect version 6/7/8 or Word version 2000 or earlier on a 3.5-inch disk labeled with the project title and name.

—No watermarks, embedded text, or graphics in the document.

6. Check your disks for viruses.

7. Submit four (4) printed copies of the application and a disk with the application file to the FHWA Division office in the your State by COB Wednesday, January 31, 2001.

8. Applications, once submitted, become the property of the United States Department of Transportation.

Application Organization and Format

Page 1. Project Information & Project Abstract

Part A. Project Information.

Project Location (City/ County, State):

Project Title:

Key Contact Name:

Title:

Agency:

Mailing Address (Street/ PO Box):

City, State, Zip code:

Phone:

Fax:

E-Mail:

Web site:

Applicant Category (check one)

Planning __ Implementation __

Project Type (i.e., planning TOD, brownfield redevelopment, job access):

Congressional District(s) and Congressional Representative name(s) in which the project is located B List in order:

TCSP Funds Requested: $

Matching Funds/Services value: $

Total TCSP-related Project Costs: $

Abstract (Maximum 1 paragraph): The abstract should capture your project's main purpose. Describe the project and the expected results. Identify the scale of activity, such as, rural, urban, statewide, etc., and provide information on the types of populations affected by the project (i.e., size of population, commuter, disadvantaged, minority, etc.).

Example: “This project forms a unique partnership among the regional air pollution control district, local government, the building industry, business alliances, farming organizations, and non-profit groups to promote smart growth in California's San Joaquin Valley. The partners have come to recognize that without a change in patterns of development, the agricultural economic base of the region will decline, transportation infrastructure will become increasingly congested and poorly maintained, and people will continue to be exposed to harmful levels of air pollution. This project fulfills requests from Valley communities for assistance in implementing the principles through model ordinances, design guidelines and implementation strategies. After completion of this first phase, the City of Fresno, the largest city in the San Joaquin Valley, and the City of Reedley, representing small cities, will participate in pilot projects to implement the new ordinances and strategies in their communities. During the project and after its completion, the Local Government Commission will use its extensive livable communities network to share the project Valley-wide and nationally.”

Pages 2-4. Project Narrative

Part B. Project Narrative (Maximum 3 pages). The narrative is the long description of your project goals and tasks. In it you will need to:

—Identify the geographic scale of the proposed activity (system, region, corridor, etc.).

—Identify the demographics of the people who will benefit from the project (low income, minority, mixed).

—Identify the project's expected results in the short-and longer-term (20-40 years).

—Describe the expectations or vision for the ultimate impact of the activity.

—Identify how the project partners will help accomplish the goals

Pages 5-6. Project Objectives and Meeting TCSP

Part C. Objective, Purpose, and Criteria. Describe how the project meets each TCSP objective and how the objectives will be accomplished by the project activities. See Section II. Grant Program Purposes, above, for further explanation.

1. Improve the efficiency of the transportation system.

2. Reduce the impacts of transportation on the environment.

3. Reduce the need for costly future investments in public infrastructure.

4. Ensure efficient access to jobs, services, and centers of trade.

5. Examine development patterns and identify strategies to encourage private sector development patterns that achieve the goals of the TCSP.

Pages 7-8. Applicant Category, Planning Coordination, and Partners

Part D. Applicant Category. Indicate the category under which your project falls: (a) Planning or (b) implementation. See explanation under Section II, Applicant Category, above. Then discuss (in a paragraph or two) how the project will further the intended or established community preservation practices within your community or jurisdiction.

Part E. Coordination. Indicate how you have coordinated with the appropriate MPO or State Department of Transportation. Identify how the project activities are consistent with the State or MPO planning processes.

If the project is for construction, identify when and from whom the proposed project received the necessary environmental approvals. These must have been given prior to the application and will help indicate that the project is ready for bidding or implementation. Construction projects should be included in the State or Metropolitan Transportation Improvement Program (TIP).

Part F. Partners. List and briefly describe the agencies, organizations, and companies who are on the project team. Their roles should correspond to the work plan activities indicated under Part H below. Describe the role and functions of the non-traditional partners participating on the project team. Describe plans for public involvement or education of the private and public sector.

Pages 9-11. Project Evaluation Plan

Part G. Project Evaluation Plan. The FHWA has developed guidance on preparing evaluation plans for TCSP. Evaluation plans should include goals and objectives and evaluation methodologies, including means of monitoring, indicators and measures of performance, and plans for reporting results. Within the limits of space allowed for the proposal, applicants should provide initial ideas on evaluation approaches, which can be expanded and formalized in more complete evaluation plans after awards are made. Copies of this guidance and other related materials on evaluation can be found on the FHWA TCSP web site (http://www.fhwa.dot.gov/program.html) or from the FHWA's Division office in the applicant's State (see Attachment III).

Pages 12-13. Work Plan and Schedule of Activities

Part H. Work Plan and Schedule of Activities. Provide a schedule for completing the project's major steps or milestones. This information should include key project activities and identify a timeline for written project evaluation reports. The work plan activities must directly relate to the budget line items activities identified under Part I. Budget and Resources.

Major activities | Critical dates
Activity 1 description. What is being accomplished, by whom, by when
Activity 2 description. What is being accomplished, by whom, by when
Activity etc. description. What is being accomplished, by whom, by when
Project Evaluation Plan. What is being accomplished, by whom, by when

Pages 14-15. Budget and Resources

Part I. Budget and Resources. List all funding, both Federal and non-Federal, and in-kind resources for the project using a table, similar to the one below. List the major costs by project activity following the order of activities identified in Part H. Work Plan Activities and Schedule. The budget should also show how the TCSP funds and other matching funds are used for these activities. The budget may include the costs for travel for one representative of the project team to participate and present the status and results of the project at two national conferences.

Priority is given to proposals that demonstrate a commitment of non-Federal resources. Clearly describe the use of in-kind and direct funding contributions and distinguish contributions made directly for the proposed projects from those made for other related activities.

Activities | TCSP | Local match | Total cost
Activity 1 description | $ | $ | $
Local Resources ($Value)
Local Matches B source(s)
Other Matches B source(s)
Activity 2 description | $ | $ | $
Local Resources ($Value)
Local Matches B source(s)
Other Matches B source(s)
Activity etc. description | $ | $ | $
Local Resources ($Value)
Local Matches B source(s)
Other Matches B source(s)
Project Evaluation Plan | $ | $ | $
Local Resources ($Value)
Local Matches B source(s)
Other Matches B source(s)
Totals | $ | $ | $

Attachment II: FY 2002 TCSP Research Recommendations Format

Research Submission and Formatting Requirements

1. The recommendation should be no more than 1 page in length following the format described below.

2. Do not submit additional supporting materials. Each recommendation must stand on its own without the assistance of supplemental materials.

3. Do not submit letters of support.

4. General Information:

—Page Size: 8 ½″ x 11″, portrait orientation.

—Typeface: 11 point.

—Printing: single sided only.

—Binding: DO staple only the top left corner of each copy. No other method of binding than a simple staple should be used.

—Labeling: On each page provide the research title and page number.

5. File format for electronic submission:

—File Format: WordPerfect version 6/7/8 or Word version 2000 or earlier on a 3½ inch floppy disk labeled with the project title and name.

—No watermarks, embedded text, or graphics in the document.

6. Check your disks for viruses.

7. Submit four (4) printed copies and a 3.5-inch disk of the recommendation to the FHWA Division office in the your State by COB Wednesday, January 31, 2001.

8. Recommendations, once submitted, become the property of the United States Department of Transportation.

Research Recommendation Organization and Format

Page 1. Research Information & Research Abstract

Part A. Information.

Research Project Location (City/County, State):

Research Project Title:

Key Contact Name:

Title:

Agency:

Mailing Address (Street/PO Box):

City, State, Zip code:

Phone:

Fax:

E-Mail:

Web site:

Congressional District(s) and Congressional Representative name(s) in which the research activity is proposed. List in order:

Estimated cost of research: $

Abstract (Maximum 1 page). The abstract should capture your proposal's main purpose. Describe the research and the expected results. Include the benefits and impacts of conducting the proposed research. The abstract should also describe how the research effort meets each TCSP objective and how the following objectives will be accomplished by the research activities.

1. Improve the efficiency of the transportation system.

2. Reduce the impacts of transportation on the environment.

3. Reduce the need for costly future investments in public infrastructure.

4. Ensure efficient access to jobs, services, and centers of trade.

5. Examine development patterns and identify strategies to encourage private sector development patterns that achieve the goals of the TCSP.

Attachment III

FHWA Division Offices
State | Address, Email, phone number, facsimile number
ALABAMA (HDA-AL) | 500 Eastern Boulevard, Suite 200, Montgomery, AL 36117-2018; E-ddress: Alabama.FHWA@fhwa.dot.gov; Phone: 334-223-7370; Fax: 334-223-7325.
ALASKA (HDA-AK) | 709 W. Ninth Street, Room 851, Juneau, AK 99802-1648; E-ddress: Alaska.FHWA@fhwa.dot.gov; Phone: 907-586-7180; Fax: 907-586-7420.
ARIZONA (HDA-AZ) | 234 N. Central Avenue, Suite 330, Phoenix, AZ 85004; E-ddress: Arizona.FHWA@fhwa.dot.gov; Phone: 602-379-3646; Fax: 602-379-3608.
ARKANSAS (HDA-AR) | Federal Office Building, 700 West Capitol Avenue, Room 3130, Little Rock, AR 72201-3298; E-ddress: Arkansas.FHWA@fhwa.dot.gov; Phone: 501-324-5625; Fax: 501-324-6423.
CALIFORNIA (HDA-CA) | 980 9th Street, Suite 400, Sacramento, CA 95814-2724; E-ddress: California.FHWA@fhwa.dot.gov; Phone: 916-498-5001; Fax: 916-498-5008.
COLORADO (HDA-CO) | 555 Zang Street, Room 250, Lakewood, CO 80228-1097; E-ddress: Colorado.FHWA@fhwa.dot.gov; Phone: 303-969-6730; Fax: 303-969-6740.
CONNECTICUT (HDA-CT) | 628-2 Hebron Avenue, Suite 303, Glastonbury, CT 06033-5007; E-ddress: Connecticut.FHWA@fhwa.dot.gov Phone: 860-659-6703; Fax: 860-659-6724.
DELAWARE (HDA-DE) | 300 South New Street, Suite 2101, Dover, DE 19904-6726; E-ddress: Delaware.FHWA@fhwa.dot.gov; Phone: 302-734-5323; Fax: 302-734-3066.
DISTRICT OF COLUMBIA (HDA-DC) | Union Center Plaza, Suite 750, 820 First Street, N.E., Washington, DC 20002; E-ddress: DC.FHWA@fhwa.dot.gov; Phone: 202-523-0163; Fax: 202-523-0181.
FLORIDA (HDA-FL) | 227 N. Bronough Street, Suite 2015, Tallahassee, FL 32301; E-ddress: Florida.FHWA@fhwa.dot.gov; Phone: 850-942-9650 x3001; Fax: 850-942-9691.
GEORGIA (HDA-GA) | 61 Forsyth Street, SW., Suite 17T100; Atlanta, GA 30303-3104; E-ddress: Georgia.FHWA@fhwa.dot.gov; Phone: 404-562-3630; Fax: 404-562-3703.
HAWAII (HDA-HI) | 300 Ala Moana Boulevard, Rm. 3306, Honolulu, HI 96850; E-ddress: Hawaii.FHWA@fhwa.dot.gov; Phone: 808-541-2700; Fax: 808-541-2704.
IDAHO (HDA-ID) | 3050 Lakeharbor Lane, Suite 126, Boise, ID 83703; E-ddress: Idaho.FHWA@fhwa.dot.gov; Phone: 208-334-9180; Fax: 208-334-1691.
ILLINOIS (HDA-IL) | 3250 Executive Park Drive, Springfield, IL 62703-4514; E-ddress: Illinois.FHWA@fhwa.dot.gov; Phone: 217-492-4640; Fax: 217-492-4621.
INDIANA (HDA-IN) | 575 N. Pennsylvania Street, Room 254, Indianapolis, IN 46204-1576; E-ddress: Indiana.FHWA@fhwa.dot.gov; Phone: 317-226-7475; Fax: 317-226-7341.
IOWA (HDA-IA) | 105 6th Street, Ames, IA 50010-6337; E-ddress: Iowa.FHWA@fhwa.dot.gov; Phone: 515-233-7300; Fax: 515-233-7499.
KANSAS (HDA-KS) | 3300 South Topeka Blvd., Suite 1, Topeka, KS 66611-2237; E-ddress: Kansas.FHWA@fhwa.dot.gov; Phone: 785-267-7281; Fax: 785-267-7290.
KENTUCKY (HDA-KY) | 330 W. Broadway, Frankfort, KY 40601; E-ddress: Kentucky.FHWA@fhwa.dot.gov; Phone: 502-223-6720; Fax: 502-223-6735.
LOUISIANA (HDA-LA) | 5304 Flanders Drive, Suite A, Baton Rouge, LA 70808-4348; E-ddress: Louisiana.FHWA@fhwa.dot.gov; Phone: 225-757-7600; Fax: 225-757-7601.
MAINE (HDA-ME) | 40 Western Avenue, Room 614, Augusta, ME 04330; E-ddress: Maine.FHWA@fhwa.dot.gov; Phone: 207-622-8487; Fax: 207-626-9133.
MARYLAND (HDA-MD) | The Rotunda, 711 West 40th Street, Suite 220, Baltimore, MD 21211; E-ddress: Maryland.FHWA@fhwa.dot.gov; Phone: 410-962-4440; Fax: 410-962-4054.
MASSACHUSETTS (HDA-MA) | 55 Broadway, 10th Floor, Cambridge, MA 02142; E-ddress: Massachusetts.FHWA@fhwa.dot.gov; Phone: 617-494-3657; Fax: 617-494-3355.
MICHIGAN (HDA-MI) | Federal Building, 315 West Allegan Street, Room 207, Lansing, MI 48933; E-ddress: Michigan.FHWA@fhwa.dot.gov; Phone: 517-377-1844; Fax: 517-377-1804.
MINNESOTA (HDA-MN) | Galtier Plaza, Box 75, 175 East Fifth Street, Suite 500, St. Paul, MN 55101-2904; E-ddress: Minnesota.FHWA@fhwa.dot.gov; Phone: 651-291-6100; Fax: 651-291-6000.
MISSISSIPPI (HDA-MS) | 666 North Street, Suite 105, Jackson, MS 39202-3199; E-ddress: Mississippi.FHWA@fhwa.dot.gov; Phone: 601-965-4215; Fax: 601-965-4231.
MISSOURI (HDA-MO) | 209 Adams Street, Jefferson City, MO 65101; E-ddress: Missouri.FHWA@fhwa.dot.gov; Phone: 573-636-7104; Fax: 573-636-9283.
MONTANA (HDA-MT) | 2880 Skyway Drive, Helena, MT 59602, E-ddress: Montana.FHWA@fhwa.dot.gov; Phone: 406-449-5303 Ext. 235; Fax: 406-449-5314.
NEBRASKA (HDA-NE) | Federal Building, Room 220, 100 Centennial Mall North, Lincoln, NE 68508-3851; E-ddress: Nebraska.FHWA@fhwa.dot.gov; Phone: 402-437-5521; Fax: 402-437-5146.
NEVADA (HDA-NV) | 705 North Plaza Street, Suite 220, Carson City, NV 09701-0602; E-ddress: Nevada.FHWA@fhwa.dot.gov; Phone: 775-687-1204; Fax: 775-687-3803.
NEW HAMPSHIRE (HDA-NH) | 279 Pleasant Street, Suite 204, Concord, NH 03301-7502; E-ddress: NewHampshire.FHWA@fhwa.dot.gov; Phone: 603-228-0417; Fax: 603-228-2829.
NEW JERSEY (HDA-NJ) | 840 Bear Tavern Road, Suite 310, West Trenton, NJ 08628-1019; E-ddress: NewJersey.FHWA@fhwa.dot.gov; Phone: 609-637-4200; Fax: 609-538-4913.
NEW MEXICO (HDA-NM) | 604 W. San Mateo Road, Santa Fe, NM 87505; E-ddress: NewMexico.FHWA@fhwa.dot.gov; Phone: 505-820-2021; Fax: 505-820-2050 or -2040.
NEW YORK (HDA-NY) | Leo W. O'Brien Federal Bldg, Rm 719, Clinton Avenue and North Pearl Street, Albany, NY 12207; E-ddress: NewYork.FHWA@fhwa.dot.gov; Phone: 518-431-4125; Fax: 518-431-4121.
NORTH CAROLINA (HDA-NC) | 310 New Bern Avenue, Suite 410, Raleigh, NC 27601; E-ddress: NorthCarolina.FHWA@fhwa.dot.gov; Phone: 919-856-4346; Fax: 919-856-4353.
NORTH DAKOTA (HDA-ND) | 1471 Interstate Loop, Bismarck, ND 58503-0567; E-ddress: NorthDakota.FHWA@fhwa.dot.gov; Phone: 701-250-4204; Fax: 701-250-4395.
OHIO (HDA-OH) | 200 North High Street, Room 328, Columbus, OH 43215; E-ddress: Ohio.FHWA@fhwa.dot.gov; Phone: 614-280-6896; Fax: 614-280-6876.
OKLAHOMA (HDA-OK) | 300 N. Meridian, Suite 105 S, Oklahoma City, OK 73107-6560; E-ddress: Oklahoma.FHWA@fhwa.dot.gov; Phone: 405-605-6012; Fax: 405-605-6170.
OREGON (HDA-OR) | The Equitable Center, Suite 100, 530 Center Street, NE., Salem, OR 97301-3740; E-ddress: Oregon.FHWA@fhwa.dot.gov; Phone: 503-399-5749; Fax: 503-399-5838.
PENNSYLVANIA (HDA-PA) | 228 Walnut Street, Room 558, Harrisburg, PA 17101-1720; E-ddress: Pennsylvania.FHWA@fhwa.dot.gov; Phone: 717-221-3461; Fax: 717-221-3494.
PUERTO RICO (HDA-PR) | Carlos Chardon Street, Room 329, San Juan, Puerto Rico 00918-1755; E-ddress: PuertoRico.FHWA@fhwa.dot.gov; Phone: 787-766-5600; Fax: 787-766-5924.
RHODE ISLAND (HDA-RI) | 380 Westminster Mall, Fifth Floor, Providence, RI 02903; E-ddress: RhodeIsland.FHWA@fhwa.dot.gov; Phone: 401-528-4541; Fax: 401-528-4542.
SOUTH CAROLINA (HDA-SC) | 1835 Assembly Street, Suite 1270, Columbia, SC 29201; E-ddress: SouthCarolina.FHWA@fhwa.dot.gov; Phone: 803-765-5411; Fax: 803-253-3989.
SOUTH DAKOTA (HDA-SD) | 116 East Dakota Avenue, Pierre, SD 57501-3110; E-ddress: SouthDakota.FHWA@igate.fhwa.dot.gov; Phone: 605-224-8033; Fax: 605-224-1766.
TENNESSEE (HDA-TN) | 640 Grassmere Park Road, Suite 112, Nashville, TN 37211-3568; E-ddress: Tennessee.FHWA@fhwa.dot.gov; Phone: 615-781-5770; Fax: 615-781-5773
TEXAS (HDA-TX) | 300 East Eighth Street, Room 826, Austin, TX 78701; E-ddress: Texas.FHWA@fhwa.dot.gov; Phone: 512-916-5511; Fax: 512-916-5881.
UTAH (HDA-UT) | 2520 West 4700 South, Suite 9A, Salt Lake City, UT 84118; E-ddress: Utah.FHWA@fhwa.dot.gov; Phone: 801-963-0182; Fax: 801-963-0093.
VERMONT (HDA-VT) | 87 State Street, Montpelier, VT 05602; E-ddress: Vermont.FHWA@fhwa.dot.gov; Phone: 802-828-4423; Fax: 802-828-4424.
VIRGINIA (HDA-VA) | 400 North 8th Street, Room 750, Richmond, VA 23240; E-ddress: Virginia.FHWA@fhwa.dot.gov; Phone: 804-775-3320; Fax: 804-775-3356.
VIRGIN ISLANDS | For information, contact the Puerto Rico Division at 787-766-5600.
WASHINGTON (HDA-WA) | Suite 501, Evergreen Plaza, 711 South Capitol Way, Olympia, WA 98501-1284; E-ddress: Washington.FHWA@fhwa.dot.gov; Phone: 360-753-9480; Fax: 360-753-9889.
WEST VIRGINIA (HDA-WV) | 700 Washington Street East,Geary Plaza, Suite 200,Charleston, WV 25301-1604; E-ddress: WestVirginia.FHWA@fhwa.dot.gov; Phone: 304-347-5928; Fax: 304-347-5103.
WISCONSIN (HDA-WI) | Highpoint Office Park, 567 D'Onofrio Drive, Madison, WI 53719-2814; E-ddress: Wisconsin.FHWA@fhwa.dot.gov; Phone: 608-829-7500; Fax: 608-829-7526 (Main), Fax: 608-829-7540 (backup).
WYOMING (HDA-WY) | 1916 Evans Avenue, Cheyenne, WY 82001-3764; E-ddress: Wyoming.FHWA@fhwa.dot.gov; Phone: 307-772-2101; Fax: 307-772-2011.

FHWA/FTA Metropolitan Offices
Office | Address, Email, phone number, facsimile number
Los Angeles Metropolitan Office (HMO-CA-LA) | 201 North Figueroa Street, Suite 1460; Los Angeles, CA 90012; Phone: 213-202-3950; Fax: 213-202-3961.
Chicago Metropolitan Office (HMO-IL-CH) | 200 West Adams, Room 2410, Chicago, IL 60606-5232; Phone: 312-886-1616; Fax: 312-353-3925.
New York Office (HMO-NY-NY) | 26 World Trade Center, Room 320, New York, NY Metropolitan 10048, Fax: 212-466-1939, 212-668-2201.
| 26 Federal Plaza, Suite 2940, New York, NY 10278-0194, Fax 212-264-8973, 212-668-2170.
Philadelphia Metropolitan Office (HMO-PA-PH) | 1760 Market Street, Suite 903, Philadelphia, PA 19103; Phone: 215-656-7070; Fax: 215-656-7269.

Authority: 23 U.S.C. 315; sec. 1221, Pub. L. 105-178, 112 Stat. 107, 221 (1998); and 49 CFR 1.48.

Issued on: August 30, 2000.
Walter L. Sutton, Jr.,
Federal Highway Deputy Administrator.

[FR Doc. 00-23267 Filed 9-12-00; 8:45 am]

BILLING CODE 4910-22-P